DEPARTMENT OF ENERGY

Federal Energy Regulatory Commission

[Docket No. EC03-74-000, et al.]

Hanover Power. LLC, et al.; Electric Rate and Corporate Filings

April 10, 2003.

The following filings have been made with the Commission. The filings are listed in ascending order within each docket classification.

1. Hanover Power, LLC, Fresno Power Investors, L.P., and Harold E. Dittmer

[Docket No. EC03-74-000]

Take notice that on April 2, 2003, Hanover Power, LLC (HP), Harold E. Dittmer (Mr. Dittmer), and Fresno Power Investors, L.P. (FPILP) (collectively, the Applicants), filed with the Federal Energy Regulatory Commission (the Commission) an application pursuant to Section 203 of the Federal Power Act seeking authorization for the transfer of certain jurisdictional facilities whereby Applicants request approval of the transfer of 49% of the upstream membership interests in Wellhead Power Panoche, LLC from HP to Mr. Dittmer and FPILP.

Comment Date: April 23, 2003.

2. Maine Public Service Company and Energy Atlantic, LLC

[Docket No. EC03-75-000]

Take notice that on April 2, 2003, Maine Public Service Company (Maine Public) and its wholly-owned subsidiary, Energy Atlantic LLC (Energy Atlantic), filed with the Federal Energy Regulatory Commission (Commission) an application pursuant to section 203 of the Federal Power Act for authorization of a proposed intracorporate reorganization whereby Maine Public and Energy Atlantic will become direct, wholly-owned subsidiaries of a newly formed corporation.

Main Public and Energy Atlantic states that copies of this filing were served upon the Maine Public Utilities Commission and the Maine Public Advocate Office.

Comment Date: April 23, 2003.

3. Williams Energy Marketing & Trading Company and Progress Ventures, Inc.

[Docket No. EC03-76-000]

Take notice that on April 4, 2003, Williams Energy Marketing & Trading Company (Williams EMT) and Progress Ventures, Inc.(Progress Ventures) tendered for filing with the Federal Energy Regulatory Commission (Commission), a joint application pursuant to section 203 of the Federal Power Act and a request for expedited approval of a proposed transaction whereby Williams EMT will assign its interest in a Power Supply and Energy Call Agreement between Williams EMT and Jackson Electric Membership Corporation (Jackson EMC) to Progress Ventures.

Williams EMT and Progress Ventures state that copies of the public version of this filing were served upon the Georgia Public Service Commission and Jackson EMC.

Comment Date: April 25, 2003.

4. Aquila Piatt County Power L.L.C.

[Docket No. EG03-58-000]

Take notice that on April 8, 2003, Aquila Piatt County Power L.L.C. (Aquila Piatt) filed with the Federal Energy Regulatory Commission an Application for Determination of Exempt Wholesale Generator Status pursuant to part 365 of the Commission regulations.

Aquila Piatt filed its Application in conjunction with the proposed operation of a newly constructed 480 MW simple cycle merchant power plant consisting of six GE 7EA gas-fired combustion turbines located in Piatt County, Illinois.

Comment Date: May 1, 2003.

5. Pacific Gas and Electric Company

[Docket No. ER02-479-003]

Take notice that on April 7, 2003, Pacific Gas and Electric Company (PG&E) submitted for filing a refund report, as directed by the Commission's Letter Order dated December 26, 2002, and the subsequent notice granting an extension of time, issued on January 27, 2003 in Docket Nos. ER02-250-000, ER02-257-000 and ER02-479-000.

PG&E states that copies of this filing have been served upon the parties of record in Docket Nos. ER02-250-000, ER02-257-000 and ER02-479-000.

Comment Date: April 28, 2003.

6. Bangor Hydro-Electric Company

[Docket No. ER03-635-001]

Take notice that on April 4, 2003, Bangor Hydro-Electric Company (BHE) filed supplemental information concerning the Pre-Construction Agreement between BHE and Brascan Energy Marketing, Inc. (BEMI) for the BHE/Great Northern Paper Company—Millinocket 115 kV Interface Project. BHE requests an effective date of October 25, 2002 for the filing.

Comment Date: April 25, 2003.

7. WPS Canada Generation, Inc.

[Docket No. ER03-689-001]

Take notice that on April 8, 2003, WPS Canada Generation, Inc., (WPS) filed a supplement to its April 1, 2003 filing of rate schedules for its Reactive Supply and Voltage Control from Generation Sources Services (Reactive Power Service).

WPS Canada Generation, Inc., states that copies of the filing were served upon Maine Public Service Company; the Northern Maine Independent System Administrator, Inc.; the Houlton Water Company; Eastern Maine Electric Cooperative; and Van Buren Light and Power District.

Comment Date: April 29, 2003.

8. Consumers Energy Company

[Docket No. ER03-15-003]

Take notice that on April 8, 2003 Consumers Energy Company (Consumers) tendered for filing in this docket a copy of its March 31, 2003 filing in Docket No. ER03-388-001. That March 31, 2003 filing included changes to Sheet No. 23 of Consumers' First Revised Rate Schedule No. 116, pursuant to a February 27, 2002 deficiency letter issued in Docket No. ER03-388-000. By the April 8, 2003 filing, the changes included in the March 31, 2003 filing are bing submitted in Docket No. ER03-15-003.

Consumers states that copies of the filing were served upon those on the official service list.

Comment Date: April 29, 2003.

9. Marina Energy, LLC

[Docket No. ER03-715-000]

Take notice that on April 7, 2003, Marina Energy, LLC (Marina) tendered for filing, Marina Rate Schedule FERC No. 1, under which Marina will engage in wholesale electric power and energy transactions as a marketer. Marina requests an effective date of 60 days from date of filing or upon issuance of the Commission's Order, whichever occurs first.

Comment Date: April 28, 2003.

10. Chehalis Power Generating Limited Partnership

[Docket No. ER03-717-000]

Take notice that on April 7, 2003, Chehalis Power Generating Limited Partnership (Chehalis Power) tendered for filing, under section 205 of the Federal Power Act, a request for authorization to make wholesale sales of electric energy, capacity and ancillary services at market-based rates, to reassign transmission capacity, and to resell firm transmission rights. Chehalis Power states that it proposes to own and operate a 520 MW gas-fired electric power plant under construction in Lewis County in the State of Washington.

Comment Date: April 28, 2003.

11. PJM Interconnection, L.L.C.

[Docket No. ER03-718-000]

Take notice that on April 7, 2003, PJM Interconnection, L.L.C. (PJM) submitted for filing an Emergency Energy Service Agreement Between Duquesne Light Company and PJM Interconnection, L.L.C. PJM requests waiver of the Commission's notice requirements to permit an effective date of May 1, 2003 for the agreement.

PJM states that copies of this filing were served upon Duquesne Light Company and each state electric utility regulatory commission in the PJM and Duquesne regions.

Comment Date: April 28, 2003.

12. New Athens Generating Company, LLC; New Covert Generating Company, LLC; New Harquahala Generating Company, LLC; New Millennium Power Partners, LLC

[Docket Nos. ER03-719-000; ER03-720-000; ER03-721-000; and ER03-722-000]

Take notice that on April 7, 2003, New Athens Generating Company, LLC, New Covert Generating Company, LLC, New Harquahala Generating Company, LLC and New Millennium Power Partners, LLC, submitted for filing, pursuant to Section 205 of the Federal Power Act, and part 35 of the Commission's regulations, an application for authorization to make sales, as power marketers of capacity, energy, and certain Ancillary Services at market-based rates; to reassign transmission capacity; and to resell firm transmission rights; to waive certain of the Commission's regulations promulgated under the FPA; and to grant certain blanket approvals under other such regulations.

Comment Date: April 28, 2003.

13. Texas-New Mexico Power Company

[Docket No. ER03-723-000]

Take notice that on April 8, 2003, Texas-New Mexico Power Company (TNMP) tendered for filing an Interconnection Agreement (Interconnection Agreement) between TNMP and Tri-State Generation and Transmission Association, Inc., (Tri-State). TNMP requests waiver of the Commission's prior notice requirement so that the Interconnection Agreement is made effective February 4, 2003.

TNMP states that copies of the filing were served upon Tri-State and the New Mexico Public Regulation Commission.

Comment Date: April 29, 2003.

14. Southern California Edison Company

[Docket No. ER03-724-000]

Take notice that on April 8, 2003, Southern California Edison Company (SCE) tendered for filing a Service Agreement for Wholesale Distribution Service under SCE's Wholesale Distribution Access Tariff and an Interconnection Facilities Agreement (Agreements) between SCE and WM Energy Solutions, Inc. (WMES). SCE respectfully requests the Agreements become effective on April 9, 2003.

SCE states that these Agreements specify the terms and conditions under which SCE will interconnect WMES's El Sorbrante Landfill Project (Project) to its electrical system and provide Distribution Service for up to 3.93 MW of power produced by the Project to the California Independent System Operator Controlled Grid.

SCE states that copies of this filing were served upon the Public Utilities Commission of the State of California and WMES.

Comment Date: April 29, 2003.

15. Aquila Piatt County Power L.L.C.

[Docket No. ER03-725-000]

Take notice that on April 8, 2003, Aquila Piatt County Power L.L.C. (Aquila Piatt), an indirect wholly owned subsidiary of Aquila, Inc., tendered for filing a rate schedule to engage in wholesale sales at market-based rates and a petition for waivers and blanket approvals under various regulations of the Commission. Aquila Piatt included in its filing a proposed code of conduct.

Comment Date: April 29, 2003.

16. Midwest Independent Transmission System Operator, Inc.

[Docket No. ER03-727-000]

Take notice that on April 8, 2003, the Midwest Independent Transmission System Operator, Inc., (Midwest ISO) submitted for filing proposed revisions to the Midwest ISO Open Access Transmission Tariff (OATT), FERC Electric Tariff, Second Revised Volume No.1. The Midwest ISO submits that its proposed revisions are either (i) non-substantive in nature (i.e., correct minor pagination errors and update the table of contents); (ii) viewed as necessary by certain Midwest ISO stakeholders given the fact that the provisions filed in the Resulting Company Tariff will not go into effect; or (iii) being made at the request of the Midwest ISO's Transmission Owners and other stakeholders.The Midwest ISO has requested an effective date of June 7, 2003.

The Midwest ISO has also requested waiver of the service requirements set forth in 18 CFR 385.2010. The Midwest ISO states that it has electronically served a copy of this filing, with attachments, upon all Midwest ISO Members, Member representatives of Transmission Owners and Non-Transmission Owners, the Midwest ISO Advisory Committee participants, Policy Subcommittee participants, as well as all state commissions within the region. In addition, Midwest ISO states that the filing has been electronically posted on the Midwest ISO's Web site at www.midwestiso.org under the heading “Filings to FERC” for other interested parties in this matter. The Midwest ISO indicates that it will provide hard copies to any interested parties upon request.

Comment Date: April 29, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-9547 Filed 4-17-03; 8:45 am]

BILLING CODE 6717-01-P